DEPARTMENT OF THE INTERIOR

National Park Service

Final Management Action Plan/Environmental Impact Statement; Record of Decision; National Coal Heritage Area, West Virginia

AGENCY: National Park Service, Department of the Interior.

ACTION: Notice of Availability of the Record of Decision for the Final Management Action Plan/Environmental Impact Statement, National Coal Heritage Area.

SUMMARY: Pursuant to Section 102(2)(C) of the National Environmental Policy Act of 1969, Pub. L. 91-190, 83 Stat. 852, 853, codified as amended at 42 U.S.C. 4332(2)(C), the National Park Service announces the availability of the Record of Decision for the Final Management Action Plan and Environmental Impact Statement (Final MAP/EIS) for the National Coal Heritage Area in West Virginia. The Regional Director, Northeast Region, approved the Record of Decision for the project, selecting Alternative C-Focal Point with Corridor Development, which was described on pages II-1 to II-11 of the Final MAP/EIS and announced to the public in a Notice of Availability published in the Federal Register on September 23, 2002.

The selected alternative, and three additional alternatives including Alternative D, the No-Action Alternative, were analyzed in the Draft and Final Environmental Impact Statements. Each alternative was evaluated as to how it would guide the priorities, projects, and management of the national heritage area over the following ten years. Management approach, funding sources, and education, preservation, conservation and interpretation opportunities and priorities were all considered during the analysis, as were marketing and tourism opportunities and priorities and the development of physical components including visitor centers, destination centers, a museum, and access corridors. The full range of foreseeable environmental consequences was assessed and disclosed in relation to impacts on historic, cultural, natural and recreational resources, the environment, and the quality of the visitor experience.

The NPS will implement Alternative C, the preferred alternative (the selected action), as described in the National Coal Heritage Area Management Action Plan/Environmental Impact Statement for the National Coal Heritage Area because it best reflects and fulfills the goals of the National Coal Heritage Area's mission, as well as the purpose and intent of the National Coal Heritage Area's enabling legislation. The selected alternative is based on a combined focal point/corridor development approach and is a hybrid of Alternatives A and B, which were also evaluated in the National Coal Heritage Area Management Action Plan/Environmental Impact Statement. The selected alterantive includes the nine Destination Centers and Experience Zones proposed in Alternative A and the development of a large-scale, state-of-the-art interpretive and educational museum/visitor center complex near Beckley proposed in Alternative B. The selected alternative is estimated to cost approximately $78 million over a 10-year period.

The NPS has selected Alternative C for implementation because it best meets the legislative intent of the National Coal Heritage Area Act to “develop and implement integrated cultural, historical, and land resource management policies and programs to retain, enhance, and interpret significant values of the lands, water, and structures of the Area.” The Selected Alternative captures a broad range of visitors and encourages local capacity building simultaneously. It gives visitors several options for exploring the 11-county heritage area with a large interpretive center, several Visitor Centers and nine Destination Centers. The Selected Alternative provides for strong central leadership that would take an active role in the development of a broad-based preservation and conservation effort that is likely to result in increased investment in the NCHA and increased business and employment opportunities.

The Record of Decision includes a background of the project, statement of the decision made, synopses of alternatives considered, the basis for the decision, a finding of no impairment of resources and values, and an overview of public and agency involvement in the decision-making process. This decision is the result of a public planning process that began with public outreach meetings in February and March 2000, and the publication of a Notice of Intent to prepare an Environmental Impact Statement for the National Coal Heritage Area Management Action Plan in the Federal Register on July 17, 2001. The official responsible for this decision is the NPS Regional Director, Northeast Region.

ADDRESSES: The Record of Decision for the Final MAP/EIS for the National Coal Heritage Area is available online at http://www.coalheritage.org or http://www.planning.nps.gov/plans.cfm. Copies may be obtained by contacting the Executive Director, National Coal Heritage Area, P.O. Box 5176, Beckley, WV 25801.

FOR FURTHER INFORMATION CONTACT: Christy Bailey, Executive Director, National Coal Heritage Area, P.O. Box 5176, Beckley, WV 25801, phone (304) 256-6941, ccbailey@ntelos.net.

SUPPLEMENTARY INFORMATION: The National Coal Heritage Area Act (Pub. L. 104-333; 110 Stat. 4243), enacted on November 12, 1996, authorized the National Coal Heritage Area “for the purpose of preserving and interpreting for the educational and inspirational benefit of present and future generations certain lands and structures with unique and significant historic and cultural value associated with the coal mining heritage of the State of West Virginia and the Nation.” This legislation charged the Governor of the State of West Virginia with developing and implementing a management plan to “set forth the integrated cultural, historical, and land resource management policies and programs * * * describe the guidelines and standard for projects * * * and set forth the responsibilities o the State of West Virginia, units of local government, nonprofit entities, or Secretary to administer any properties acquired” for the purposes of implementing the act. In 2006, Pub. L. 109-338 recognized the National Coal Heritage Area Authority as the new management entity and expanded the Heritage Area's boundaries.

The National Coal Heritage Area Authority has put forward a management plan and EIS after many years of public meetings and partnership-building activities with state and local governments, nonprofit organizations and corporations, and residents to develop an implementation and action plan outlining the priority activities and actions, estimated costs, and intended goals of the National Coal Heritage Area management entity and its partners. Proposed projects are organized into four distinct phases, which build upon the approach described in the selected alternative. The activities and actions described demonstrate a commitment by Heritage Area partners to collaborate on initiatives that use culture and heritage to integrate the region and foster economic development.

Dated: February 22, 2008.
Dennis R. Reidenbach,
Regional Director, Northeast Region, National Park Service.

[FR Doc. E8-8136 Filed 4-15-08; 8:45 am]

BILLING CODE 4312-52-P